FEDERAL COMMUNICATIONS COMMISSION

47 CFR Part 73

[DA 10-1062; MB Docket No. 08-243; RM-11490]

FM Table of Allotments, Culebra, PR, Charlotte Amalie, and Christiansted, VI

AGENCY: Federal Communications Commission.

ACTION: Final rule.

SUMMARY: The Audio Division substitutes Channel 237B for vacant Channel 271B at Charlotte Amalie, Virgin Islands to enable Station WNVE-FM to obtain an authorization on Channel 271A at Culebra, Puerto Rico. The reference coordinates for vacant Channel 237B at Charlotte Amalie are 18-20-36 NL and 64-55-48 WL. To facilitate vacant Channel 237B at Charlotte Amalie, we are substituting Channel 224B for Channel 236B at Christiansted, Virgin Islands and modifying the license of FM Station WJKC to reflect this change. The ultimate permittee of Channel 237B at Charlotte Amalie, will be required to reimburse the licensee of Station WJKC(FM), Christiansted, for its reasonable and prudent costs in changing channels to Channel 237B. Additionally, we grant the application, File No. BMPH-20071211AAQ, that requests the substitution of Channel 271A for Channel 254A at Culebra, and modification of the Station WNVE-FM authorization to reflect the change.

DATES: Effective November 15, 2010.

ADDRESSES: Federal Communications Commission, 445 12th Street, SW., Washington, DC 20554.

FOR FURTHER INFORMATION CONTACT: Rolanda F. Smith, Media Bureau, (202) 418-2180.

SUPPLEMENTARY INFORMATION: This is a summary of the Commission's Report and Order, MB Docket No. 08-243, adopted June 10, 2010, and released June 14, 2010. The full text of this Commission document is available for inspection and copying during normal business hours in the FCC Reference Information Center (Room CY-A257), 445 12th Street, SW., Washington, DC.

The complete text of this decision may also be purchased from the Commission's copy contractor, Best Copy and Printing, Inc., 445 12th Street, SW., Room CY-B402, Washington, DC 20554, 800-378-3160 or via the company's Web site, http://www.bcpiweb.com.

The Commission will send a copy of this Report and Order in a report to be sent to Congress and the Government Accountability Office pursuant to the Congressional Review Act, see 5 U.S.C. 801(a)(1)(A).

This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 does not apply to this proceeding.

People with Disabilities: To request materials in accessible formats for people with disabilities (Braille, large print, electronic files, audio format), send an e-mail to fcc504@fcc.gov or call the Consumer & Government Affairs Bureau at 202-418-0530 (voice), 202-418-0432 (tty).

List of Subjects in 47 CFR Part 73

Radio, Radio broadcasting.

Federal Communications Commission.
John A. Karousos,
Assistant Chief, Audio Division, Media Bureau.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Virgin Islands, is amended by adding Channel 237B at Charlotte Amalie.

[FR Doc. 2010-25929 Filed 10-14-10; 8:45 am]

BILLING CODE P